DEPARTMENT OF EDUCATION

Fiscal Year 2018 Title VI Virtual Technical Assistance Workshop

AGENCY: Office of Postsecondary Education, Department of Education.

ACTION: Notice.

SUMMARY: The Department of Education (Department), International and Foreign Language Education (IFLE) announces a Fiscal Year (FY) 2018 Title VI Virtual Technical Assistance Workshop (TAW). IFLE is conducting this workshop to assist prospective applicants with the preparation of FY 2018 grant applications for programs authorized by title VI of the Higher Education Act (HEA), pending the availability of funds for new competitions.

Note: Please be advised that this notice is not inviting grant applications from the public, as the Department has not announced any international education program competitions for FY 2018.

DATES: IFLE will conduct the TAW on September 19 and 20, 2017.

FOR FURTHER INFORMATION CONTACT: Kathleen Connors de Laguna, U.S. Department of Education, 400 Maryland Avenue SW., Room 3E221, Washington, DC 20202-4260. Telephone: (202) 453-5518 or by email: kathleen.connorsdelaguna@ed.gov or Michelle Butler. Telephone: (202) 453-6491 or by email: michelle.butler@ed.gov.

If you use a telecommunications device for the deaf (TDD) or a text telephone (TTY), call the Federal Relay Service (FRS), toll free, at 1-800-877-8339.

SUPPLEMENTARY INFORMATION: The purpose of the TAW is to assist prospective applicants with the preparation of grant applications under the Centers for International Business Education (CIBE), Language Resource Centers (LRC), National Resource Centers (NRC), Foreign Language and Area Studies Fellowships (FLAS), and the Undergraduate International Studies and Foreign Language (UISFL) Programs, pending the availability of funds for new FY 2018 competitions. (CFDA Numbers: 84.220A, 84.229A, 84.015A, 84.015B, and 84.017A.)

IFLE is holding its first virtual technical workshop to provide a more cost-efficient platform for participants to obtain guidance for developing their grant applications and engage with other participants, Department officials, and the IFLE team. The two-day workshop will be live-streamed from the Department headquarters in Washington, DC. The overall structure of the workshop will include an opening plenary session, technical assistance presentations about the Title VI programs' selection criteria and other application requirements, presentations that highlight innovative Title VI and Fulbright-Hays projects and outcomes, “lessons-learned” sessions about building effective and sustained collaborations, and presentations by experts on relevant international education topics. All sessions will be interactive and will provide the opportunity for participants to comment and ask questions.

A tentative agenda is available at http://iflemeetings.com/agenda/.

Registration: The workshop is open to the public and free of charge. All participants, however, should register online at http://iflemeetings.com. Registering on this Web site enables participants to receive the instructions for selecting the sessions they wish to attend virtually.

The Department is committed to ensuring that this webinar is accessible to all people with disabilities. If you require a reasonable accommodation to participate in this webinar, please contact the persons listed under FOR FURTHER INFORMATION CONTACT.

Accessible Format: Individuals with disabilities can obtain this document in an accessible format (e.g., Braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: September 6, 2017.
Kathleen A. Smith,
Acting Assistant Secretary for Postsecondary Education.

[FR Doc. 2017-19206 Filed 9-8-17; 8:45 am]

BILLING CODE 4000-01-P